GENERAL SERVICES ADMINISTRATION

[Notice-MA-2012-02; Docket No. 2012-0002; Sequence 19]

The President's Management Advisory Board (PMAB); Notification of Upcoming Public Advisory Meeting

AGENCY: Office of Executive Councils, U.S. General Services Administration (GSA).

ACTION: Meeting Notice.

SUMMARY: The President's Management Advisory Board (PMAB), a Federal Advisory Committee established in accordance with the Federal Advisory Committee Act (FACA), 5 U.S.C., App., and Executive Order 13538, will hold a public meeting on Friday, September 7, 2012.

DATES: Effective date: August 14, 2012.

Meeting date: The meeting will be held on Friday, September 7, 2012, beginning at 12:30 p.m. eastern time, ending no later than 1:30 p.m.

FOR FURTHER INFORMATION CONTACT: Mr. Scott Winslow, Designated Federal Officer, President's Management Advisory Board, Office of Executive Councils, General Services Administration, 1776 G Street NW., Washington, DC 20006, at scott.winslow@gsa.gov.

SUPPLEMENTARY INFORMATION:

Background: The PMAB was established to provide independent advice and recommendations to the President and the President's Management Council on a wide range of issues related to the development of effective strategies for the implementation of best business practices to improve Federal Government management and operation.

Agenda: The main purpose of this meeting is for the full PMAB to discuss and vote on initial recommendations presented by the two PMAB subcommittees which are working on the following issues: Improving Strategic Sourcing and Curbing Improper Payments.

Meeting Access: The PMAB will convene its meeting via teleconference. The meeting is open to the public; interested members of the public may listen to the PMAB's discussion by telephoning 1(800)857-9716 and using the following passcode PMAB. There will be 75 telephone lines available for use by the public and those lines will be allocated to interested members of the public on a first come, first served basis. Members of the public will not have the opportunity to ask questions, comment, or otherwise participate in the teleconference; however, in advance of the meeting, members of the public wishing to comment on the discussion or topics may do so by following the steps detailed below in Procedures for Providing Public Comments.

Availability of Materials for the Meeting: Please see the PMAB Web site (http://www.whitehouse.gov/administration/advisory-boards/pmab) for any available materials. Meeting materials will be available by 5 p.m. on September 4, 2012. Detailed meeting minutes will be posted within 90 days of the meeting.

Procedures for Providing Public Comments: In general, public statements will be posted on the PMAB web site (see above). Non-electronic documents will be made available for public inspection and copying in PMAB offices at GSA, 1776 G Street NW., Washington, DC 20006, on official business days between the hours of 10 a.m. and 5 p.m. eastern time. You can make an appointment to inspect statements by telephoning (202) 208-2387. All statements, including attachments and other supporting materials, received are part of the public record and subject to public disclosure. Any statements submitted in connection with the PMAB meeting will be made available to the public under the provisions of the Federal Advisory Committee Act.

The public is invited to submit written statements for this meeting until 12:30 p.m. eastern time on Thursday, September 6, 2012, by either of the following methods:

Electronic or Paper Statements: Submit electronic statements to Mr. Winslow, Designated Federal Officer at scott.winslow@gsa.gov; or send paper statements in triplicate to Mr. Winslow at the PMAB GSA address above.

Dated: August 7, 2012.
Janet Dobbs,
Deputy Associate Administrator, Office of Asset and Transportation Management, Office of Governmentwide Policy.

[FR Doc. 2012-19839 Filed 8-13-12; 8:45 am]

BILLING CODE P